DEPARTMENT OF THE INTERIOR

Bureau of Indian Affairs

[190A2100DD/AAKC001030/A0A501010.999900253G]

Notice of Intent To Prepare an Environmental Impact Statement for the Eagle Shadow Mountain Solar Project on the Moapa River Indian Reservation, Clark County, Nevada

AGENCY: Bureau of Indian Affairs, Interior.

ACTION: Notice of intent.

SUMMARY: The Bureau of Indian Affairs (BIA), as lead agency in cooperation with the Moapa Band of Paiute Indians (Moapa Band), the Bureau of Land Management (BLM), and other agencies, intend to prepare an Environmental Impact Statement (EIS) that will evaluate a photovoltaic (PV) solar energy generation project on the Moapa River Indian Reservation and a transmission line located on Tribal lands, Federal lands administered and managed by BLM, and land owned by NV Energy in Clark County, Nevada. This notice announces the beginning of the scoping process to solicit public comments and identify potential issues related to the EIS. It also announces that two public scoping meetings will be held in Nevada to identify potential issues, alternatives, and mitigation to be considered in the EIS.

DATES: Written comments on the scope of the EIS or implementation of the proposal must arrive by March 6, 2019. The dates and locations of the public scoping meetings will be published in the Las Vegas Sun, Las Vegas Review-Journal, and Moapa Valley Progress 15 days before the scoping meetings.

ADDRESSES: You may mail, email, or hand carry written comments to Mr. Chip Lewis, BIA Western Regional Office, 2600 North Central Avenue, 4th Floor Mailroom, Phoenix, Arizona 85004; telephone: (602) 379-6750; email: Chip.Lewis@bia.gov.

SUPPLEMENTARY INFORMATION: The proposed Federal action, taken under 25 U.S.C. 415, is BIA's approval of a solar energy ground lease and associated agreements entered into by the Moapa Band with 325MK 8me LLC (Applicant), a subsidiary of 8minutenergy. The agreements provide for construction, operation and maintenance (O&M), and decommissioning of a 300-megawatt (MW) alternating current solar photovoltaic (PV) electricity generation facility located entirely on the Moapa River Indian Reservation and specifically on lands held in trust by BIA for the Moapa Band. A proposed 230 kilovolt (kV) generation-tie transmission line required for interconnection of the solar project would be located on Tribal lands, Federal lands administered and managed by BLM, and private lands. The BIA and BLM would approve rights-of-way (ROWs) authorizing the construction and operation of the transmission line. Together, the proposed solar energy facility, transmission line, and other associated facilities will make up the proposed solar project (Project).

The Project would be constructed on up to 2,300 acres located within a 4,770-acre lease area in Township 16 South, Range 64 East that includes all or parts of Sections 9, 10, 11, 12, 14, 15, 16, 21, and 22 Mount Diablo Meridian, Nevada. Access to the Project would be provided by I-15, US-93, and North Las Vegas Boulevard. The overhead 230kV generation-tie transmission line would be approximately 10 miles long and would connect the solar project to NV Energy's Reid-Gardner 230kV substation.

Construction of the Project is expected to take approximately 16 to 18 months. The Applicant is expected to operate the energy facility for up to 50 years under the terms of the lease. The Project is expected to be built in one phase of 300 MW to meet an existing Power Purchase Agreement (PPA) for the output of the Project. Major onsite facilities include multiple blocks of solar PV panels mounted on fixed tilt or tracking systems, pad mounted inverters and transformers, collection lines, battery storage facilities, project substation, access roads, and O&M facilities. Water will be needed during construction for dust control and a minimal amount will be needed during operations for administrative and sanitary water use and possibly for panel washing. The water supply required for the Project would be leased from the Moapa Band.

The purposes of the proposed Project are, among other things, to: (1) Help to provide a long-term, diverse, and viable economic revenue base and job opportunities for the Moapa Band; (2) help Nevada and neighboring states to meet their State renewable energy needs; and (3) allow the Moapa Band, in partnership with the Applicant, to optimize the use of the lease site while maximizing the potential economic benefit to the Tribe.

BIA will prepare the EIS in cooperation with the Moapa Band, BLM, Environmental Protection Agency (EPA), US Air Force (USAF), and Nevada Department of Wildlife (NDOW) and possibly the U.S. Army Corps of Engineers. In addition, the U.S. Fish and Wildlife Service (USFWS) and National Park Service (NPS) will provide input on the analysis. The resulting EIS will aim to (1) provide agency decision makers, the Moapa Band, and the general public with a comprehensive understanding of the impacts of the proposed Project and alternatives on the Reservation; (2) describe the cumulative impacts of increased development on the Reservation; and (3) identify and propose mitigation measures that would minimize or prevent significant adverse impacts. Consistent with these objectives, the EIS will analyze the proposed Project and appurtenant features, viable alternatives including generation-tie routing options, modified footprint alternatives, alternate routing for other Project ROWs, and the No Action alternative. Other alternatives may be identified in response to issues raised during the scoping process.

The EIS will provide a framework for BIA and BLM to make determinations and to decide whether to take the aforementioned Federal actions. In addition, BIA will use and coordinate the NEPA commenting process to satisfy its obligations under Section 106 of the National Historic Preservation Act (NHPA) (16 U.S.C. 470f) as provided for in 36 CFR 800.2(d)(3). Native American Tribal consultations will be conducted in accordance with policy, and Tribal concerns will be given due consideration, including impacts on Indian trust assets. Other Federal agencies may rely on the EIS to make decisions under their authority and the Moapa Band may also use the EIS to make decisions under their Tribal Environmental Policy Ordinance. USFWS will review the EIS for consistency with the Endangered Species Act, as amended, and other implementing acts, and may rely on the EIS to support its decisions and opinions regarding the Project.

Issues to be addressed in the EIS analysis may include, but would not be limited to, Project impacts on water resources, biological resources, threatened and endangered species, cultural resources, Native American religious concerns, and aesthetics. In addition to those resource topics identified above, Federal, State, and local agencies, along with other stakeholders that may be interested or affected by the BIA's decision on the proposed Project, are invited to participate in the scoping process to identify additional issues to be addressed.

Submission of Public Comments

Please include your name, return address, and the caption “EIS, Eagle Shadow Mountain Solar Project,” on the first page of any written comments. You may also submit comments at the public scoping meetings.

The public scoping meetings will be held to further describe the Project and identify potential issues and alternatives to be considered in the EIS. The first public scoping meeting will be held on the Reservation and the other public scoping meeting will be held in Las Vegas, Nevada. The dates of the public scoping meetings will be included in notices to be posted in the Las Vegas Sun, Las Vegas Review-Journal, and Moapa Valley Progress 15 days before the meetings.

Public Comment Availability

Comments, including names and addresses of respondents, will be available for public review at the mailing address shown in the ADDRESSES section during regular business hours, 8 a.m. to 4:30 p.m., Monday through Friday, except holidays. Before including your address, phone number, email address, or other personal identifying information in your comment, you should be aware that your entire comment—including your personal identifying information—may be made publicly available at any time.

Authority

This notice is published in accordance with 40 CFR 1501.7 of the Council of Environmental Quality regulations and 43 CFR 46.235 of the Department of the Interior Regulations implementing the procedural requirements of the NEPA (42 U.S.C. 4321 et seq.), and in accordance with the exercise of authority delegated to the Principal Deputy Assistant Secretary—Indian Affairs by part 209 of the Department Manual.

Dated: December 21, 2018.
Tara Sweeney,
Assistant Secretary—Indian Affairs.

[FR Doc. 2019-00899 Filed 2-1-19; 8:45 am]

BILLING CODE 4337-15-P